DEPARTMENT OF THE INTERIOR

Fish and Wildlife Service

50 CFR Part 17

RIN 1018-AV19

Endangered and Threatened Wildlife and Plants; 12-Month Petition Finding and Proposed Rule To List the Polar Bear (Ursus maritimus) as Threatened Throughout Its Range

AGENCY: Fish and Wildlife Service, Interior.

ACTION: Proposed rule; notice of public informational meetings and public hearings.

SUMMARY: We, the U.S. Fish and Wildlife Service (Service), announce the locations and times of combined public meetings that have been scheduled to: (1) Provide information on the 12-month petition finding and proposed rule to list the polar bear (Ursus maritimus) as threatened throughout its range, and (2) Receive verbal public comments on that proposal.

DATES: The meeting dates are:

1. March 1, 2007, 7 to 10 p.m., Anchorage, AK.

2. March 5, 2007, 6 to 9 p.m., Washington, DC.

3. March 7, 2007, 5 to 10 p.m., Barrow, AK.

We will accept written comments until April 9, 2007. If you wish to submit written comments, follow the directions in our January 9, 2007, proposed regulation (72 FR 1064).

ADDRESSES: The meeting locations are:

1. Anchorage—Wilda Marston Theatre, Z.J. Loussac Library, 3600 Denali Street, Anchorage, AK 99503.

2. Washington, DC—Department of the Interior (Sidney Yates Auditorium), 1849 C St., NW., Washington, DC 20240.

3. Barrow—Inupiat Heritage Center (Multipurpose Room), Barrow, AK 99723.

FOR FURTHER INFORMATION CONTACT: Cathy Rezabeck, Regional Outreach Coordinator, 1011 East Tudor Rd., MS-101, Anchorage, AK 99503 (telephone 907/786-3351). Persons who use a telecommunications device for the deaf (TDD) may call the Federal Information Relay Service (FIRS) at 1-800-877-8339, 24 hours a day, 7 days a week. For information concerning the Washington, D.C., meeting, please contact Valerie Fellows, Public Affairs Specialist, U.S. Fish and Wildlife Service, 1849 C Street, NW., Washington, DC 20240 (telephone 202/208-5634).

SUPPLEMENTARY INFORMATION: We will hold a combined public informational meeting and public hearing at the following locations: Anchorage, Alaska; Barrow, Alaska; and Washington, DC. In each location, the public informational meeting will precede the public hearing. All meetings will include a 30-minute presentation on the Service's status review of the polar bear followed by a 30-minute question and answer period on the status review. We invite the public to provide oral testimony during the public hearing.

Background

On January 9, 2007, we published a proposed rule (72 FR 1064) to list the polar bear as threatened on the Federal List of Endangered and Threatened Wildlife in 50 CFR 17.11(h). Because of the wide geographic scope of the proposal and heightened public interest, we have scheduled public informational meetings and public hearings at three locations.

Our purpose for holding these public informational meetings is to provide additional opportunities for the public to gain information and ask questions about our proposal. These informational sessions should assist interested parties in preparing substantive comments, which we will accept until close of business (5 p.m.) Alaska Local Time on April 9, 2007. The public hearings will be the only method for the public to verbally present comments and data for entry into the public record of this rulemaking and for our consideration during our final decision. Anyone wishing to make an oral comment or statement for the record at a public hearing listed above is encouraged (but not required) to also provide a written copy of the statement and present it to us at the hearing. Oral and written statements receive equal consideration. In the event there is a large attendance, the time allotted for oral statements may be limited.

Comments and data can also be submitted in writing or electronically, as described in the January 9, 2007, proposal, and at: http://alaska.fws.gov/fisheries/mmm/polarbear/issues.htm.

Public Comments Solicited

We intend that any final action resulting from the proposed rule will be as accurate and as effective as possible. Therefore, we request comments or information from the public, other concerned governmental agencies, the scientific community, industry, or any other interested party concerning the proposed rule. We particularly seek comments concerning:

(1) Information on taxonomy, distribution, habitat selection (especially denning habitat), food habits, population density and trends, habitat trends, and effects of management on polar bears;

(2) Information on the effects of sea ice change on the distribution and abundance of polar bears and their principal prey over the short and long term;

(3) Information on the effects of other potential listing factors, including oil and gas development, contaminants, ecotourism, hunting, and poaching, on the distribution and abundance of polar bears and their principal prey over the short and long term;

(4) Information on regulatory mechanisms and management programs for polar bear conservation, including mitigation measures related to oil and gas exploration and development, hunting conservation programs, anti-poaching programs, and any other private, tribal, or governmental conservation programs that benefit polar bears;

(5) The specific physical and biological features to consider, and specific areas that may meet the definition of critical habitat and that should or should not be considered for a proposed critical habitat designation as provided by section 4 of the Endangered Species Act;

(6) Information relevant to whether any populations of the species may qualify as distinct population segments; and

(7) The data and studies referred to within the proposal.

Author

The author of this notice is Charles S. Hamilton, U.S. Fish and Wildlife Service, Anchorage, Alaska.

Authority

The authority for this notice is the Endangered Species Act of 1973, as amended (16 U.S.C. 1531 et seq.).

Dated: February 2, 2007.
Mamie A. Parker,
Acting Director, U.S. Fish and Wildlife Service.

[FR Doc. 07-723 Filed 2-13-07; 11:21 am]

BILLING CODE 4310-55-P